DEPARTMENT OF THE INTERIOR

Bureau of Land Management

[OR-092-02-1430-EU: GP02-0002; OR 55429]

Realty Action; Modified Competitive Sale of Public Lands; Oregon

AGENCY: Bureau of Land Management, Interior.

ACTION: Notice of realty action.

SUMMARY: This notice announces the availability of two small parcels of public land in Lane County, Oregon, for sale using modified competitive sale procedures.

SUPPLEMENTARY INFORMATION: The following land is suitable for modified competitive sale under sections 203 and 209 of the Federal Land Policy and Management Act of 1976, (43 U.S.C. 1713 and 1719), at no less than the appraised fair market value (FMV). The land will not be offered for sale until at least 60 days after publication of this notice:

Willamette Meridian, Oregon

Parcel A

T. 21 S., R. 3 W.

Sec. 2: Lot 6

Containing 1.77 acres.

Appraised fair market value: $6,100.00.

Parcel B:

T. 21 S., R. 3 W.

Sec. 2: Lot 9

Containing 1.97 acres.

Appraised fair market value: $16,600.00.

The above described land is hereby segregated from appropriation under the public land laws, including the mining laws, but not from sale under the above cited statute, for 270 days from the date of publication of this notice in the Federal Register or until title transfer is completed or the segregation is terminated by publication in the Federal Register, whichever occurs first.

This land is difficult and uneconomic to manage as part of the public lands and is not suitable for management by another Federal agency. No significant resource values will be affected by this disposal. Coordination with State, tribal and local governments concerning the sale has been conducted. The sale is consistent with BLM's planning for the land involved and the public interest will be served by the sale.

Purchasers must be U.S. citizens, 18 years of age or older, a state or state instrumentality authorized to hold property, or a corporation authorized to own real estate in the state in which the land is located.

The two parcels will be offered for sale at public auction using modified bidding procedures authorized under 43 CFR 2711.3-2. Bidding for each parcel is open to all qualified bidders; however, the following adjacent land owners (designated bidders) will be given the opportunity to meet the highest bid received at the sale for either parcel: Spencer K. Adair and Jeanne L. Adair; Donna R. Dennis and Wanda Dennis; Marjorie A. Nord and Roylin A. Melton; Donald J. Overholser and Rodney G. Matthews; LaVerna Pitcher and Randy Pitcher; and Paul M. Tollefson and Elizabeth Tollefson. Modified competitive sale is appropriate since the land is part of a survey hiatus identified by cadastral survey in 1999 and has been inadvertently occupied and utilized for many years by a roadway providing access to adjoining lands. A Bonneville Power Administration electric transmission line corridor occupies portions of both parcels and a portion of a residential carport encroaches upon Parcel B.

The two parcels will be offered for sale at public auction beginning at 10 am, PST on March 25, 2002, at 2890 Chad Drive, Eugene, Oregon 97401-9336. Sale will be by sealed bid only. All sealed bids must be received by the BLM's Eugene District Office at 2890 Chad Drive, Eugene, Oregon 97401-9336, prior to 10 a.m. on the date of the sale, March 25, 2002. Bid envelopes must be marked on the lower left front corner, “Sale OR 55429 Parcel A” or “Sale OR 55429 Parcel B”. Bids must be for not less than the appraised FMV specified in this notice. Each sealed bid shall be accompanied by a certified check, postal money order, bank draft, or cashier's check made payable to the Department of Interior, BLM for not less than 10 percent of the amount bid. Any parcel not sold as a result of the March 25, 2002, sale will be re-offered to the general public through continuing modified competitive sales. Offers for the unsold parcel will be accepted in a manner consistent with the process described herein; bids will be opened on the 15th day of each month thereafter until the apparent high bid is declared.

Under modified competitive sale procedures the written sealed bids will be opened and an apparent high bid for each parcel will be declared at the sale. The apparent high bidder and the designated bidders will be notified. The designated bidders will be given 30 days from the date of the sale to exercise the preference consideration given to meet the high bid, individually or in combination. Should the designated bidders fail to submit a written bid that matches the apparent high bid within the specified time period, the apparent high bidder will be declared high bidder. In case more than one written bid matching the apparent high bid is received from designated bidders, the interested bidders will be given an opportunity and instructions for submission of an additional sealed bid, meeting the above stated requirements, which additional sealed bids will be opened at a specified time, date and place, followed by oral bidding. At the conclusion of the oral bidding, the high bidder will be awarded the property. The total purchase price for the land shall be paid within 180 days of the date of this sale.

The terms, conditions, and reservations applicable to the sale are as follows:

1. A right-of-way for ditches and canals will be reserved to the United States under 43 U.S.C. 945.

2. A successful bid for a parcel will constitute an application for conveyance of the mineral estate in accordance with section 209 of the Federal Land Policy and Management Act. A nonrefundable $50.00 filing fee for the conveyance of the mineral estate will be required from the prospective purchaser. The mineral interests to be conveyed simultaneously with the sale of the land have been determined to have no known mineral value.

3. Patent will be issued subject to all valid existing rights and reservations of record.

4. The sale will be subject to:

a. Parcel A:

(1) A requirement that the purchaser, at closing, grant an easement to the U.S. Department of Energy, Bonneville Power Administration, for an existing electric transmission line.

(2) A requirement that the purchaser, at closing, grant an easement to LaVerna Pitcher, for ingress and egress to her adjoining property.

(3) A requirement that the purchaser, at closing, grant an easement to Donald J. Overholser and Rodney G. Matthews, for ingress and egress to their adjoining property.

b. Parcel B:

(1) Such rights for public road purposes as Lane County, Oregon, or its successors in interest may have pursuant to right-of-way OR 55407. Act of October 21, 1976, 90 Stat. 2776, 43 U.S.C. 1761.

(2) A requirement that the purchaser, at closing, grant an easement to the U.S. Department of Energy, Bonneville Power Administration, for an existing electric transmission line.

(3) A requirement that the purchaser, at closing, grant an easement to LaVerna Pitcher, for ingress and egress to her adjoining property.

(4) A requirement that the purchaser, at closing, grant an easement to Donald J. Overholser and Rodney G. Matthews, for ingress and egress to their property adjoining Parcel A.

(5) A requirement that the purchaser, at closing, grant an easement to Donna R. Dennis and Wanda Dennis, for ingress and egress to their adjoining property.

(6) A requirement that the purchaser, at closing, grant an encroachment easement to Donna R. Dennis and Wanda Dennis, for an existing carport structure that encroaches upon Parcel B.

DATES: For a period of 45 days from the date of publication of this notice in the Federal Register, interested parties may submit comments to the Field Manager, South Valley Resource Area, Bureau of Land Management, at the address below. Objections will be reviewed by the Eugene District Manager who may sustain, vacate, or modify this realty action. In absence of any objections, this realty action will become the final determination of the Department of the Interior.

ADDRESSES: Detailed information concerning the sale, including the reservations; sale procedures and conditions; form of the easements to be granted to the Bonneville Power Administration, LaVerna Pitcher, Donald J. Overholser and Rodney G. Matthews, and Donna R. Dennis and Wanda Dennis; and planning and environmental documents, is available at the Eugene District Office, P.O. Box 10226 (2890 Chad Drive), Eugene, Oregon 97440.

FOR FURTHER INFORMATION CONTACT: Ronald Wold, Realty Specialist, Eugene District Office, at (541) 683-6403.

Dated: September 27, 2001.
Steven Calish,
Field Manager, South Valley Resource Area.

[FR Doc. 02-1487 Filed 1-18-02; 8:45 am]

BILLING CODE 4310-33-P